ENVIRONMENTAL PROTECTION AGENCY

National Environmental Justice Advisory Council

[FRL-7009-8]

Indigenous Peoples Subcommittee; Notification of Meeting

Pursuant to the Federal Advisory Committee Act (FACA), Public Law 92-463, we now give notice that the National Environmental Justice Advisory Council (NEJAC), Indigenous Peoples Subcommittee (IPS) will meet on the dates and times described below. All times noted are Mountain Time. All meetings are open to the public. Due to limited space, seating at the NEJAC/IPS meeting will be on a first-come basis. Documents that are the subject of NEJAC reviews are normally available from the originating EPA office and are not available from the NEJAC. The IPS meetings will take place at the Hacienda de Placitas, 491 Highway 165, Placitas, New Mexico 87043. The meeting dates and times are as follows: July 26 (8:30 a.m.-5:00 p.m.) and July 27 (8:30 a.m.-12:00 p.m.), 2001. The IPS will be focusing on the development of its two year work plan, and will discuss fish consumption and subsistence issues. Any member of the public wishing additional information on the subcommittee meeting, or who plans on attending the meeting should contact Mr. Daniel Gogal, IPS Designated Federal Officer, EPA Office of Environmental Justice, (202) 564-2576.

Dated: July 3, 2001.
Linda K. Smith,
Acting Director, Office of Environmental Justice.

[FR Doc. 01-17204 Filed 7-9-01; 8:45 am]

BILLING CODE 6560-50-P